DEPARTMENT OF HOMELAND SECURITY

Federal Emergency Management Agency

[Docket ID: FEMA-2009-0001]

Agency Information Collection Activities: Submission for OMB Review; Comment Request, OMB No. 1660-0002; Disaster Assistance Registration

AGENCY: Federal Emergency Management Agency, DHS.

ACTION: Notice; 30-day notice and request for comments; revision of a currently approved information collection; OMB No. 1660-0002; FEMA Form 009-0-1 (Replaces 90-69), Application/Registration for Disaster Assistance; FEMA Form 009-0-2 (Replaces 90-69A), Solicitud/Registro Para Asistencia De Resastre; FEMA Form 009-0-3 (Replaces 90-69B), Declaration and Release; FEMA Form 009-0-4 (Replaces 90-69C), Declaración Y Autorización; FEMA Form 009-0-5 (Replaces 90-69D), Receipt for Government Property; FEMA Form 009-0-6 (Replaces 90-69E), Recibo de Propiedad del Gobierno.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before June 4, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Disaster Assistance Registration.

Type of information collection: Revision of a currently approved information collection. The type of collection has changed since publication of the 60-day Federal Register Notice at 74 FR 68851, December 29, 2009.

OMB Number: 1660-0002.

Form Titles and Numbers: FEMA Form 009-0-1 (Replaces 90-69), Application/Registration for Disaster Assistance; FEMA Form 009-0-2 (Replaces 90-69A), Solicitud/Registro Para Asistencia De Resastre; FEMA Form 009-0-3 (Replaces 90-69B), Declaration and Release; FEMA Form 009-0-4 (Replaces 90-69C), Declaración Y Autorización; FEMA Form 009-0-5 (Replaces 90-69D), Receipt for Government Property; FEMA Form 009-0-6 (Replaces 90-69E), Recibo de Propiedad del Gobierno.

Abstract: Disaster Assistance Registration is a program used to provide financial assistance and, if necessary, direct assistance to eligible individuals and households who, as a direct result of a disaster, have uninsured or under-insured, necessary expenses and serious needs and are unable to meet such expenses or needs through other financial means. The instruments used in this collection collect the information necessary to determine the appropriate level of assistance to each individual.

Affected Public: Individuals or Households.

Estimated Number of Respondents: 1,718,291.

Frequency of Response: On Occasion.

Estimated Average Hour Burden per Respondent: .32 hours.

Estimated Total Annual Burden Hours: 555,009 hours.

Estimated Cost: There is no operation, maintenance, start-up or capital cost associated with this collection.

Dated: April 28, 2010.
Samuel C. Smith,
Acting Director, Records Management Division, Mission Support Bureau, Federal Emergency Management Agency, Department of Homeland Security.

[FR Doc. 2010-10537 Filed 5-4-10; 8:45 am]

BILLING CODE 9111-23-P